DEPARTMENT OF AGRICULTURE

Forest Service

Lincoln Resource Advisory Committee

AGENCY: Forest Service, Agriculture (USDA).

ACTION: Notice of meeting.

SUMMARY: The Lincoln Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Kootenai National Forest within Lincoln County, MT, consistent with the Federal Lands Recreation Enhancement Act. RAC information and virtual meeting information can be found at the following website: https://www.fs.usda.gov/main/kootenai/workingtogether/advisorycommittees.

DATES: The meeting will be held on October 13, 2021 at 1:00 p.m. to 5:00 p.m., Mountain Daylight Time.

All RAC meetings are subject to cancellation. For status of the meeting prior to attendance, please contact the person listed under For Further Information Contact.

ADDRESSES: The meeting will be held virtually via Microsoft Teams for video/phone conference. The public can view meeting participation details on the website listed above in the Summary section.

Written comments may be submitted as described under Supplementary Information. All comments, including names and addresses when provided, are placed in the record and are available for public inspection and copying. The public may inspect comments received upon request.

FOR FURTHER INFORMATION CONTACT: Chad Benson, Designated Federal Officer (DFO), by phone at 406-293-6211 or email at chadwick.benson@usda.gov or LaRona Rebo, RAC Coordinator, at 406-283-7764 or email at larona.rebo@usda.gov. Individuals who use telecommunication devices for the deaf/hard-of-hearing (TDD) may call the Federal Relay Service (FRS) at 1-800-877-8339, 24 hours a day, every day of the year, including holidays.

SUPPLEMENTARY INFORMATION: The purpose of the meeting is to:

1. Hear from Title II project proponents and discuss project proposals;

2. Make funding recommendations on Title II projects;

3. Approve meeting minutes; and

4. Schedule the next meeting.

The meeting is open to the public. The agenda will include time for people to make oral statements of three minutes or less. Individuals wishing to make an oral statement should make a request in writing by September 24, 2021, to be scheduled on the agenda. Anyone who would like to bring related matters to the attention of the committee may file written statements with the committee staff before or after the meeting. Written comments and requests for time for oral comments must be sent to LaRona Rebo, 313474 US Hwy 2, Libby, MT 59923 or by email to larona.rebo@usda.gov.

Meeting Accommodations: Please make requests in advance for sign language interpreter services, assistive listening devices, or other reasonable accommodations. For access to the facility or proceedings, please contact the person listed in the section titled For Further Information Contact. All reasonable accommodation requests are managed on a case-by-case basis.

Dated: September 21, 2021.
Cikena Reid,
USDA Committee Management Officer.

[FR Doc. 2021-20836 Filed 9-24-21; 8:45 am]

BILLING CODE 3411-15-P